DEPARTMENT OF TRANSPORTATION

Federal Aviation Administration

14 CFR Part 39

[Docket No. FAA-2005-22332; Directorate Identifier 2005-CE-46-AD; Amendment 39-14262; AD 2005-18-21]

RIN 2120-AA64

Airworthiness Directives; Raytheon Aircraft Company Models 1900, 1900C, 1900C (C-12J), and 1900D Airplanes

AGENCY: Federal Aviation Administration (FAA), DOT.

ACTION: Final rule; request for comments.

SUMMARY: The FAA is adopting a new airworthiness directive (AD) for certain Raytheon Aircraft Company Models 1900, 1900C, 1900C (C-12J), and 1900D airplanes. This AD requires you to inspect all elevator hinge support attachments on both left and right elevators for loose and missing rivets, replace rivets if loose or missing rivets are found, inspect the elevator hinge joints for looseness and clearance of each elevator to its stabilizer, correct looseness and clearance if incorrect, and report results of the required inspections. This AD results from a report of excessive movement of the elevator and elevator trim. The hinge support attachment that attaches the elevator to the horizontal stabilizer was loose and had loose and missing rivets. The elevator counterweight horn showed evidence of rubbing against the horizontal stabilizer, indicating possible incorrect clearance. We are issuing this AD to detect and correct any looseness in the elevator hinge support attachments, which could result in binding of the elevator control system. This elevator binding could lead to loss of control of the airplane.

DATES: This AD becomes effective September 13, 2005.

As of September 13, 2005, the Director of the Federal Register approved the incorporation by reference of certain publications listed in the regulation.

We must receive any comments on this AD by October 20, 2005.

ADDRESSES: Use one of the following to submit comments on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact Raytheon Aircraft Company, P.O. Box 85, Wichita, Kansas 67201; telephone: (800) 625-7043.

To view the comments to this AD, go to http://dms.dot.gov. The docket number is FAA-2005-22332; Directorate Identifier 2005-CE-46-AD.

FOR FURTHER INFORMATION CONTACT: Steven E. Potter, Aerospace Engineer, Airframe and Services Branch, ACE-118W, 1801 Airport Road, Wichita, Kansas 67209; telephone: (316) 946-4124; facsimile: (316) 946-4107.

SUPPLEMENTARY INFORMATION: What events have caused this AD? On a recent flight, a Model 1900D experienced a binding elevator control column during takeoff. The pilot was able to free the control column. During continuation of the flight the elevator trim moved slowly nose up and required a one-half unit trim adjustment every one to two minutes. An inspection found a missing rivet and other loose rivets on the outboard hinge attachment that attaches the elevator to the horizontal stabilizer. The elevator counterweight horn showed evidence of rubbing against the horizontal stabilizer, indicating possible incorrect clearance. Loose rivets were found on other airplanes of the same type design.

What is the potential impact if FAA took no action? Looseness in the elevator hinge support attachments could result in binding of the elevator control system. This elevator binding could lead to loss of control of the airplane.

Is there service information that applies to this subject? Raytheon Aircraft Company has issued Safety Communiqué No. 261, dated August 2005.

What are the provisions of this service information? The service information specifies inspecting all elevator hinge support attachments on both left and right elevators.

FAA's Determination and Requirements of the AD

What has FAA decided? We have evaluated all pertinent information and identified an unsafe condition that is likely to exist or develop on other products of this same type design.

Since the unsafe condition described previously is likely to exist or develop on other Raytheon Aircraft Company Models 1900, 1900C, 1900C (C-12J), and 1900D airplanes of the same type design, we are issuing this AD to detect and correct any looseness in the elevator hinge support attachments, which could result in binding of the elevator control system. This elevator binding could lead to loss of control of the airplane.

What does this AD require? This AD requires you to inspect all elevator hinge support attachments on both left and right elevators for loose and missing rivets, replace rivets if loose or missing rivets are found, inspect the elevator hinge joints for looseness and clearance of each elevator to its stabilizer, correct looseness and/or clearance if incorrect, and report results of the required inspections.

How does the revision to 14 CFR part 39 affect this AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Comments Invited

Will I have the opportunity to comment before you issue the rule? This AD is a final rule that involves requirements affecting flight safety and was not preceded by notice and an opportunity for public comment; however, we invite you to submit any written relevant data, views, or arguments regarding this AD. Send your comments to an address listed under ADDRESSES. Include “Docket No. FAA-2005-22332; Directorate Identifier 2005-CE-46-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us through a nonwritten communication, and that contact relates to a substantive part of this AD, we will summarize the contact and place the summary in the docket. We will consider all comments received by the closing date and may amend the AD in light of those comments.

Authority for This Rulemaking

What authority does FAA have for issuing this rulemaking action? Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “AD Docket FAA-2005-22332; Directorate Identifier 2005-CE-46-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-18-21 Raytheon Aircraft Company: Amendment 39-14262; Docket No. FAA-2005-22332; Directorate Identifier 2005-CE-46-AD.

When Does This AD Become Effective?

(a) This AD becomes effective on September 13, 2005.

Are Any Other ADs Affected By This Action?

(b) None.

What Airplanes Are Affected by This AD?

(c) This AD affects the following airplane models and serial numbers that are certificated in any category:

Models | Serial Nos.
(1) 1900 | UA-3;
(2) 1900C | UB-1 through UB-74 and UC-1 through UC-174;
(3) 1900C (C-12J) | UD-1 through UD-6; and
(4) 1900D | UE-1 through UE-439.

What Is the Unsafe Condition Presented in This AD?

(d) This AD results from a report of excessive movement of the elevator and elevator trim. The hinge support bracket that attaches the elevator to the horizontal stabilizer was loose and had loose and missing rivets. The elevator counterweight horn showed evidence of rubbing against the horizontal stabilizer, indicating possible incorrect clearance. We are issuing this AD to detect and correct any looseness in the elevator hinge support attachments, which could result in binding of the elevator control system. This elevator binding could lead to loss of control of the airplane.

What Must I Do To Address This Problem?

(e) To address this problem, you must do the following:

Actions | Compliance | Procedures
(1) Inspect all elevator hinge support attachments on both left and right elevators on both left and right elevators for loose or missing rivets | Within 50 hours time-in-service (TIS) after the effective date of this AD | As specified in Raytheon Aircraft Company Safety Communiqué No. 261, dated August 2005, following the applicable Raytheon Aircraft Company Maintenance Manual, Chapter 5-20-07 and Structural Repair Manual, Chapter 51-40-02.
(2) If loose or missing rivets are found in the inspection required in paragraph (e)(1) of this AD, replace reviets | Before further flight | As specified in Raytheon Aircraft Company Safety Communiqué No. 261, dated August 2005, following the applicable Raytheon Aircraft Company Maintenance Manual, Chapter 5-20-07 and Structural Repair Manual, Chapter 51-40-02.
(3) Inspect the elevator hinge joints for looseness and the clearance of each elevator to its stabilizer | Within 50 hours TIS after the effective date of this AD | As specified in Raytheon Aircraft Company Safety Communiqué No. 261, dated August 2005, following the applicable Raytheon Aircraft Company Maintenance Manual, Chapter 5-20-07.
(4) If looseness of the elevator hinge joints or incorrect clearance between the elevators and their stabilizers is found, correct the discrepancies | Before further flight | As specified in Raytheon Aircraft Company Safety Communiqué No. 261, dated August 2005, following the applicable Raytheon Aircraft Company Maintenance Manual, Chapter 5-20-07.
(5) Report the results found in the inspections required in paragraph (e)(1) and (e)(3) of this AD. The Office of Management and Budget (OMB) approved the information collection requirements contained in this regulation under the provisions of the Paperwork Reduction Act of 1980 (44 U.S.C. 3501 and those following sections) and assigned OMB Control Number 2120-0056 | Within 7 days after the inspections required in paragraph (e)(1) and (e)(3) of this AD | In addition to Raytheon Aircraft Company, send a completed copy of the Raytheon Aircraft Company Elevator Inspection form, found in Raytheon Aircraft Company Safety Communiqué No. 261, dated August 2005, to Steven E. Potter, FAA, 1801 Airport Road, Wichita, Kansas 67209. Also include in your report TIS since elevator replacement, if elevator has been replaced.

May I Request an Alternative Method of Compliance?

(f) You may request a different method of compliance or a different compliance time for this AD by following the procedures in 14 CFR 39.19. Unless FAA authorizes otherwise, send your request to your principal inspector. The principal inspector may add comments and will send your request to the Manager, Wichita Aircraft Certification Office, FAA. For information on any already approved alternative methods of compliance, contact Steven E. Potter, Aerospace Engineer, Airframe and Services Branch, ACE-118W, 1801 Airport Road, Wichita, Kansas 67209; telephone: (316) 946-4124; facsimile: (316) 946-4107.

Does This AD Incorporate Any Material by Reference?

(g) You must do the actions required by this AD following the instructions in Raytheon Aircraft Company Safety Communiqué No. 261, dated August 2005. The Director of the Federal Register approved the incorporation by reference of this service bulletin in accordance with 5 U.S.C. 552(a) and 1 CFR part 51. To get a copy of this service information, contact Raytheon Aircraft Company, P.O. Box 85, Wichita, Kansas 67201; telephone: (800) 625-7043. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2005-22332; Directorate Identifier 2005-CE-46-AD.

Issued in Kansas City, Missouri, on September 2, 2005.
Kim Smith,
Acting Manager, Small Airplane Directorate, Aircraft Certification Service.

[FR Doc. 05-17890 Filed 9-12-05; 8:45 am]

BILLING CODE 4910-13-P